FEDERAL COMMUNICATIONS COMMISSION

47 CFR Part 64

[CG Docket Nos. 10-51 and 03-123; FCC 17-26]

Structure and Practices of the Video Relay Services Program

AGENCY: Federal Communications Commission.

ACTION: Final rule; delay of compliance date.

SUMMARY: In this document, the Commission sets aside the effectiveness, in part, of the VRS Interoperability Order, in which the Consumer and Governmental Affairs Bureau (CGB) incorporated certain technical standards on video relay service (VRS) interoperability into the Commission's telecommunications relay service (TRS) rules, pending the Commission's consideration of server-based routing.

DATES: Effective June 23, 2017 the compliance date for the VRS Provider Interoperability Profile, 47 CFR 64.621(b), as published at 82 FR 19322, April 27, 2017 is delayed indefinitely.

ADDRESSES: Federal Communications Commission, 445 12th Street SW., Washington, DC 20554.

FOR FURTHER INFORMATION CONTACT: Bob Aldrich, Consumer and Governmental Affairs Bureau, (202) 418-0996, email Robert.Aldrich@fcc.gov, or Eliot Greenwald, Consumer and Governmental Affairs Bureau, (202) 418-2235, email Eliot.Greenwald@fcc.gov.

SUPPLEMENTARY INFORMATION: This is a summary of the Commission's Structure and Practices of the Video Relay Service Program; Telecommunications Relay Services and Speech-to-Speech Services for Individuals with Hearing and Speech Disabilities, Order, document FCC 17-26, adopted on March 23, 2017, and released on March 23, 2017 in CG Docket Nos. 10-51 and 03-123. The Notice of Inquiry and Further Notice of Proposed Rulemaking, FCC 17-26, adopted on March 23, 2017, and released on March 23, 2017, was published at 82 FR 17613, April 12, 2017; and the Report and Order, FCC 17-26, adopted on March 23, 2017, and released on March 23, 2017, was published at 82 FR 17754, April 13, 2017. The full text of these documents are available for public inspection and copying via ECFS, and during regular business hours at the FCC Reference Information Center, Portals II, 445 12th Street SW., Room CY-A257, Washington, DC 20554. To request materials in accessible formats for people with disabilities (Braille, large print, electronic files, audio format), send an email to fcc504@fcc.gov or call the Consumer and Governmental Affairs Bureau at (202) 418-0530 (voice), (844) 432-2272 (videophone), or (202) 418-0432 (TTY).

Congressional Review Act

The Commission sent a copy of document FCC 17-26 to Congress and the Government Accountability Office pursuant to the Congressional Review Act, see 5 U.S.C. 801(a)(1)(A).

Final Paperwork Reduction Act of 1995 Analysis

FCC 17-26 Report and Order contains a modified information collection. The Commission, as part of its continuing effort to reduce paperwork burdens, invites the general public to comment on the modified information collection requirements contained in FCC 17-26 Report and Order, as required by the Paperwork Reduction Act (PRA), Public Law 104-13, in a separate published Federal Register Notice (Notice). Public and agency comments are due on or before August 11, 2017. See Information Collection Being Reviewed by the Federal Communications Commission, Notice, published at 82 FR 26927, June 12, 2017. In addition, this document does not contain any new or modified information collection burden for small business concerns with fewer than 25 employees, pursuant to the Small Business Paperwork Relief Act of 2002, Public Law 107-198, see 44 U.S.C. 3506(c)(4).

Synopsis

Order on Server Based Routing

1. By way of background, in the VRS Interoperability Order, DA 17-76, the VRS Provider Interoperability Profile that was incorporated into the Commission's rules provides for the routing of inter-provider VRS and point-to-point video calls to a server of the terminating VRS provider that serves multiple VRS users and devices, rather than directly to a specific device. The technical standard specifies the inclusion of call routing information in the TRS Numbering Directory that contains, in addition to the call recipient's telephone number, a VRS provider domain name, rather than a user-specific IP address. However, 47 CFR 64.613(a) currently requires that the URI for a VRS user's telephone number “shall contain the IP address of the user's device.”

2. The Commission has determined that until it acts on the Further Notice of Proposed Rulemaking in document FCC 17-26, which proposes to amend 47 CFR 64.613 to allow such server-based routing, 47 CFR 64.613 does not authorize VRS providers to provide to and retrieve from the TRS Numbering Directory the routing information specified by the VRS Provider Interoperability Profile.

3. Document DA 17-76 sets August 25, 2017 as the deadline for compliance with the VRS Provider Interoperability Profile. 47 CFR 64.621(b)(1). To avoid the possibility of subjecting VRS providers to conflicting obligations pending Commission action on the Further Notice of Proposed Rulemaking, in document FCC 17-26 Order, the Commission sets aside on its own motion the effectiveness of document DA 17-76 and 47 CFR 64.621(b)(1) with respect to the August 25, 2017 deadline for compliance with the VRS Provider Interoperability Profile.

Ordering Clauses

Pursuant to sections 1, 2, 225, and 251 of the Communications Act of 1934, as amended, 47 U.S.C. 151, 152, 225, 251, document FCC 17-26 is adopted.

The Commission's Consumer and Governmental Affairs Bureau, Reference Information Center, has sent a copy of document FCC 17-26 to the Chief Counsel for Advocacy of the Small Business Administration.

Federal Communications Commission.
Marlene H. Dortch,
Secretary.

[FR Doc. 2017-12957 Filed 6-22-17; 8:45 am]

BILLING CODE 6712-01-P